DEPARTMENT OF COMMERCE

International Trade Administration

[A-351-828]

Certain Hot-Rolled Flat-Rolled Carbon-Quality Steel Products From Brazil: Correction to Notice of Antidumping Duty Order

AGENCY: Import Administration, International Trade Administration, Department of Commerce.

DATES: Effective Date: October 19, 2010.

FOR FURTHER INFORMATION CONTACT: David Cordell or Ericka Ukrow, AD/CVD Operations, Office 7, Import Administration, International Trade Administration, U.S. Department of Commerce, 14th Street and Constitution Avenue, NW., Washington, DC 20230; telephone: (202) 482-0408 or (202) 482-0405, respectively.

Correction

On March 12, 2002, the Department published a notice of antidumping duty order for certain hot-rolled flat-rolled carbon-quality steel products from Brazil. See Antidumping Duty Order: Certain Hot-Rolled Flat-Rolled Carbon-Quality Steel Products From Brazil, 67 FR 11093 (March 12, 2002) (“Order”). The Order states incorrectly that “certain hot-rolled steel coil which meets the following chemical, physical and mechanical specifications is outside and/or specifically excluded from the scope of the order.”

Hot-rolled steel coil which meets the following chemical, physical and mechanical specifications:

C | Mn | P | S | Si | Cr | Cu | Ni
0.10-0.14% | 0.90% Max. | 0.025% Max. | 0.005% Max. | 0.30-0.50% | 0.30-0.50% | 0.20-0.40% | 0.20% Max.
Width = 44.80 inches maximum; Thickness = 0.063-0.198 inches; Yield Strength = 50,000 ksi minimum; Tensile Strength = 70,000-88,000 psi.

Hot-rolled steel coil which meets the following chemical, physical and mechanical specifications:

C | Mn | P | S | Si | Cr | Cu | Ni | Mo
0.10-0.16% | 0.70—0.90% | 0.025% Max. | 0.006% Max. | 0.30-0.50% | 0.30-0.50% | 0.25% Max. | 0.20% Max. | 0.21% Max.
Width = 44.80 inches maximum; Thickness = 0.350 inches maximum; Yield Strength = 80,000 ksi minimum; Tensile Strength = 105,000 psi Aim.

C | Mn | P | S | Si | Cr | Cu | Ni | Nb | Ca | Al
0.15% Max. | 1.40% Max. | 0.025% Max. | 0.010% Max. | 0.50% Max. | 1.00% Max. | 0.50% Max. | 0.20% Max. | 0.005% Min. | Treated | 0.01—0.70% Max.
Width = 39.37 inches; Thickness = 0.181 inches maximum; Yield Strength = 70,000 psi minimum for thicknesses; 0.148 inches and 65,000 psi minimum for thicknesses > 0.148 inches; Tensile Strength = 80,000 psi minimum. See Order at 11093, 11094.

In addition, the terminology in the “scope of the order” section incorrectly uses the word “agreement” seven times instead of referring to the “order” itself. The first four instances incorrectly uses the phrase “scope of this agreement.” The final three incorrectly state (1) “subject to this agreement” (2) “covered by this agreement” and (3) “under this agreement.”

The Order is hereby corrected to read that certain hot-rolled steel coil which meets the following chemical, physical and mechanical specifications is excluded from the scope of the order.¹

¹ See also the Antidumping Duty Order; Certain Hot-Rolled Flat-Rolled Carbon-Quality Steel Products From Japan, 64 FR 34778 (June 29, 1999).

Hot-rolled steel coil which meets the following chemical, physical and mechanical specifications:

C | Mn | P | S | Si | Cr | Cu | Ni
0.10-0.14% | 0.90% Max. | 0.025% Max. | 0.005% Max. | 0.30-0.50% | 0.50-0.70% | 0.20-0.40% | 0.20% Max.
Width = 44.80 inches maximum; Thickness = 0.063-0.198 inches; Yield Strength = 50,000 ksi minimum; Tensile Strength = 70,000-88,000 psi.

Hot-rolled steel coil which meets the following chemical, physical and mechanical specifications:

C | Mn | P | S | Si | Cr | Cu | Ni | Mo
0.10-0.16% | 0.70—0.90% | 0.025% Max. | 0.006% Max. | 0.30-0.50% | 0.50-0.70% | 0.25% Max. | 0.20% Max. | 0.21% Max.
Width = 44.80 inches maximum; Thickness = 0.350 inches maximum; Yield Strength = 80,000 ksi minimum; Tensile Strength = 105,000 psi Aim.

Hot-rolled steel coil which meets the following chemical, physical and mechanical specifications:

C | Mn | P | S | Si | Cr | Cu | Ni | Nb | Ca | Al
0.15% Max. | 1.40% Max. | 0.025% Max. | 0.010% Max. | 0.50% Max. | 1.00% Max. | 0.50% Max. | 0.20% Max. | 0.005% Min. | Treated | 0.01-0.07% Max.
Width = 39.37 inches; Thickness = 0.181 inches maximum; Yield Strength = 70,000 psi minimum for thicknesses; 0.148 inches and 65,000 psi minimum for thicknesses > 0.148 inches; Tensile Strength = 80,000 psi minimum. See Order at 11093, 11094.

The Order is hereby corrected to refer to itself as an “order” in all cases where “agreement” was used in the “scope of the order” section of the Order.

This notice is published in accordance with section 777(i) of the Tariff Act of 1930, as amended.

Dated: October 12, 2010
Ronald K. Lorentzen,
Deputy Assistant Secretary for Import Administration.

[FR Doc. 2010-26268 Filed 10-18-10; 8:45 am]

BILLING CODE 3510-DS-P